DEPARTMENT OF HEALTH AND HUMAN SERVICES

Announcement of Requirements and Registration for “Discharge Follow-Up Appointment Challenge”

AGENCY: Office of the National Coordinator for Health Information Technology, HHS.

ACTION: Notice.

SUMMARY: The “Discharge Follow-Up Appointment Challenge” challenges software developers to create an easy-to-use web-based tool that will make post-discharge follow-up appointment scheduling a more effective and shared process for care providers, patients and caregivers. In addition, developers will need to articulate a plan for broader adoption at the community level. Submissions can be existing applications, or applications developed specifically for this challenge.

The statutory authority for this challenge competition is Section 105 of the America COMPETES Reauthorization Act of 2010 (Pub. L. 111-358).

DATES: Effective on January 26, 2011.

FOR FURTHER INFORMATION CONTACT: Adam Wong, (202) 720-2866; Wil Yu, (202) 690-5920.

SUPPLEMENTARY INFORMATION:

Subject of Challenge Competition: The Office of the National Coordinator for Health Information Technology (ONC), in collaboration with the Partnership for Patients, seeks to support spread and adoption of promising IT-enabled solutions targeting improved care transitions in the “Discharge Follow-Up Appointment Challenge.” Nearly one in five patients from a hospital will be readmitted within 30 days. A large proportion of readmissions can be prevented by improving communications and coordinating care before and after discharge from the hospital.

This challenge is the second in a series of challenges calling attention to care transitions, particularly the time a patient is discharged from a hospital; these challenges are seeking development and spread of IT-enabled tools that will achieve better care and better health at lower cost. The first challenge, “Ensuring Safe Transitions from Hospital to Home,” called upon developers to create a web-based application that could empower patients and caregivers to better navigate and manage a transition from a hospital.

Research has shown that scheduling follow-up appointments and post-discharge testing before a patient is discharged, with input and engagement from patients and caregivers, is one of the critical elements of a safe and effective transition. While an increasing number of organizations have adopted this best practice, most patients across the country continue to leave the hospital without confirmed appointments and many providers remain frustrated by a highly manual and unreliable system.

Hospitals with IT-enabled scheduling processes for follow-up appointments often benefit from being in a delivery system where a single scheduling system is shared across many care settings and providers. A growing number of innovative consumer-facing tools are becoming available for patients and care givers to schedule appointments and rate providers. However these tools have not yet reached high levels of adoption within communities, and haven't to date targeted the appointment scheduling needs of patients, caregivers and providers at the point of discharge from a hospital.

The ideal application for will include the following components: Easy to navigate user interface, easy to navigate process for downstream accepting providers, information for patient and caregiver convenience and preference, critical background information for downstream providers, messaging capabilities to minimize no-shows and cancellations, and EHR interface capabilities where applicable.

To anticipate the needs of a test bed organization or community, successful applicants will also need to formally address the following pilot implementation considerations: estimated timeline for testing and pilot completion, description of ideal pilot environment, estimated resources needed for pilot, metrics to monitor pilot success, and proposed budget for a three-day site visit to support pilot development.

Eligibility Rules for Participating in the Competition:

To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

Dates:

• Submission Period Begins: 12:01 a.m., EDT, January 26, 2012.

• Submission Period Ends: 11:59 p.m., EDT, April 30, 2012.

Registration Process for Participants:

To register for this challenge participants should:

• Access the www.challenge.gov Web site and search for the “Discharge Follow-Up Appointment Challenge”.

• Access the ONC Investing in Innovation (i2) Challenge Web site at:

○ http://www.health2challenge.org/category/onc/

○ A registration link for the challenge can be found on the landing page under the challenge description.

Prize:

• First Prize: Partnership consideration with a pilot test bed community candidate and up to $5,000 to support a three-day site visit to the pilot community involving two-to-three people.

• Second and Third Prize: Showcase and learning session with innovative communities and Federal payment pilot programs focused on improved care transitions and care coordination at the community level.

Awards may be subject to Federal income taxes and HHS will comply with IRS withholding and reporting requirements, where applicable.

Basis upon Which Winner Will be Selected:

The judging panel will make selections based upon the following criteria:

1. Effectively integrate inpatient data and provide structured support for self-care.

2. Integrate design and usability concepts to drive patient and provider adoption and engagement.

3. Demonstrate creative and innovative uses of mobile technologies.

4. Demonstrate potential to improve health status for individuals and the community.

5. Leverage NwHIN standards including transport, content, and vocabularies.

6. Demonstrate ability to implement the intervention in a pilot setting, and ultimately to scale in a community.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: January 23, 2012.
Farzad Mostashari,
National Coordinator for Health Information Technology.

[FR Doc. 2012-1852 Filed 1-26-12; 8:45 am]

BILLING CODE 4150-45-P